DEPARTMENT OF AGRICULTURE

Center for Nutrition Policy and Promotion; Agency Information Collection Activities; Proposed Collection: Comment Request—MyPyramid Interactive Information Collection for Registration, Login, Food Intake and Physical Activity Assessment Information

AGENCY: Center for Nutrition Policy and Promotion, USDA.

ACTION: Notice.

SUMMARY: In accordance with the Paperwork Reduction Act of 1995, this notice invites the general public and other public agencies to comment on this proposed information collection. This collection is an extension without change of a currently approved collection MyPyramid Tracker and Menu Planner, on-line dietary and physical activity self-assessment tools.

DATES: Written comments on this notice must be submitted on or before March 23, 2009.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Jackie Haven, Director, Nutrition Marketing and Communications Division, Center for Nutrition Policy and Promotion, United States Department of Agriculture, 3101 Park Center Drive, Room 1034, Alexandria, Virginia, 22302. Comments may also be submitted via fax to the attention of Donna Johnson-Bailey at 703-305-3300 or via e-mail to { donna.johnson-bailey@cnpp.usda.gov }. Comments will also be accepted through the Federal eRulemaking Portal. Go to http://www.regulations.gov, and follow the online instructions for submitting comments electronically.

All written comments will be open for public inspection at the office of the Food, Nutrition and Consumer Services during regular business hours (8:30 a.m. to 5 p.m. Monday through Friday) at 3101 Park Center Drive, Room 1034, Alexandria, Virginia 22302.

All responses to this notice will be summarized and included in the request for Office of Management and Budget (OMB) approval. All comments will also become a matter of public record.

FOR FURTHER INFORMATION CONTACT: Requests for additional information or copies should be directed to Donna Johnson-Bailey, (703) 305-7600.

SUPPLEMENTARY INFORMATION: Title: MyPyramid Tracker and Menu Planner Information Collection for Registration, Login and Food Intake and Physical Activity Assessment.

OMB Number: 0584-0535.

Expiration Date: June 30, 2009.

Type of Request: Extension without change of a currently approved collection.

Abstract: MyPyramid Tracker (http://www.mypyramidtracker.gov) and MyPyramid Menu Planner (http://www.mypyramidtracker.gov/planner/launchPage.aspx) are Internet based diet and physical activity self-assessment tools. The MyPyramid Menu Planner tool is a simplified version of the Tracker. The Menu Planner simplifies both the user interface and the underlying data. It allows users to compare their food choices to MyPyramid recommendations. All users may choose to save their information by registering with a username and password. Individual can also use the MyPyramid Tracker and Menu Planner without registration.

Both MyPyramid Tracker and MyPyramid Menu Planner translate science-based guidance into practical information and promote nutrition education by increasing awareness about the quality of a person's diet. The tools allow users to input their daily food intakes and physical activity information and obtain a quick summary of overall daily diet quality, activity status, and energy balance in relation to the current Dietary Guidelines for Americans. Information can be tracked for up to 1 year. The tools generate motivational education messages tailored to the user's personal assessment results.

This collection will be ongoing. The information collected will only be accessible by the user. If the tools need to be improved, such as Dietary Guidelines updates or technical enhancements, formative assessment will be completed by students in cooperation with universities or colleges. Analysis of feedback from formative testing will be completed prior to the release of any updates or Web site enhancements for the general public.

Affected Public: 3,310,722 Individuals and Households, College Students—computer users.

Estimated Number of Responses per Respondent: 365 daily.

Estimated Total Annual Burden on Respondents: 6,843,466 hours.

Estimated Total Annual Responses: 30,019,978.

Estimated Number of MyPyramid Tracker Respondents: Of the 3,310,722 total respondent population and based on MyPyramid Tracker activity for the past 12 months, 2,660,704 respondents have registered, logged on and entered food and physical activity data for at least 1 day. Approximately 10% repeatedly used the Tracker on a daily basis over the past year. This would equate to approximately 22,173 repeat users visiting the site each month during one year.

The number of subjects included in formative assessments for MyPyramid Tracker will include about 9 college students, who will log in and add food intake and physical activity data for approximately 3 days.

Estimated Time Per Response: For both the MyPyramid Tracker and the Menu Planner, it will take individuals approximately 1 minute (.0167) to register for a system logon ID and password. It typically takes users 30 seconds (.0083) to log in to the system and approximately 30 minutes (.5) to complete food and physical activity data entry log for 1 day.

Table 1—MyPyramid Tracker Estimated Burden Hours
Affected public | Description of activity | (b) Form No. | (c) Number respondents | (d) Frequency of responses per respondent | (e) Est. total annual responses (c x d) | (f) Hours per response | (g) Total burden (e x f)
Reporting Burden
Individual and households | One time registration | N/A | 2,660,704 | 1 | 2,660,704 | 0.0167 | 44,433.76
| One time Log-in | N/A | 2,660,704 | 1 | 2,660,704 | 0.0083 | 22,083.84
| Food/Physical Activity Data Entry for 1 Day | N/A | 2,660,704 | 1 | 2,660,704 | 0.5 | 1,330,352.00
| Repeat Log-ins for 1 Year | N/A | 22,173 | 364 | 8,070,972.00 | 0.0083 | 66,989
| Repeat Food/Physical Activity Data Entries for 1 Year | N/A | 22,173 | 364 | 8,070,972.00 | 0.5 | 4,035,486.00
Total Burden Estimates |  |  | 2,660,704.00 |  | 24,124,056.00 |  | 5,499,344.67

Table 2—MyPyramid Tracker Estimated Burden Hours—Student Formative Research
Affected public | Description of activity | (b) Form No. | (c) Number respondents | (d) Frequency of responses per respondent | (e) Est. total annual responses | (f) Hours per response | (g) Total burden (e x f)
Reporting Burden
Students | One time registration | N/A | 9 | 1.00 | 9.00 | 0.01670 | 0.15
| One time Log-in | N/A | 9 | 1.00 | 9.00 | 0.0083 | 0.07
| Food/Physical Activity Data Entry for 1 Day | N/A | 9 | 1.00 | 9.00 | 0.5 | 4.50
| Repeat Log-ins for 1 Year | N/A | 9 | 3.00 | 27.00 | 0.0083 | 0.22
| Repeat Food/Physical Activity Data Entries for 1 Year | N/A | 9 | 3.00 | 27.00 | 0.5 | 13.50
Total Burden Estimates |  |  | 9.00 |  | 81.00 |  | 18.45

Estimated Number of MyPyramid Menu Planner Respondents: Of the 3,310,722 total respondent population and based on MyPyramid Menu Planner activity for the past 12 months, 650,000 respondents have registered, logged on and entered food and physical activity data for at least one day. Approximately 10% used the Tracker on a daily basis over the past year. This would equate to approximately 5,420 repeat users visiting the site each month during one year. The number of subjects included in the formative assessment is about 9 college students who will use the same log in process to create 3 days of food intake and physical activity data.

Table 3—MyPyramid Menu Planner Estimated Burden Hours
Affected public | Description of activity | (b) Form No. | (c) Number respondents | (d) Frequency of responses per respondent | (e) Est. total annual responses | (f) Hours per response | (g) Total burden (e x f)
Reporting Burden
Individual and households | One time registration | N/A | 650,000 | 1.00 | 650,000.00 | 0.01670 | 10,855.00
| One time Log-in | N/A | 650,000 | 1.00 | 650,000.00 | 0.0083 | 5,395.00
| Food/Physical Activity Data Entry for 1 Day | N/A | 650,000 | 1.00 | 650,000.00 | 0.5 | 325,000.00
| Repeat Log-ins for 1 Year | N/A | 5,420 | 364.00 | 1,972,880.00 | 0.0083 | 16,374.90
| Repeat Food/Physical Activity Data Entries for 1 Year | N/A | 5,420 | 364.00 | 1,972,880.00 | 0.5 | 986,440.00
Total Burden Estimates |  |  | 650,000.00 |  | 5,895,760.00 |  | 1,344,064.90

Table 4—MyPyramid Menu Planner Estimated Burden Hours—Student Formative Research
Affected public | Description of activity | (b) Form No. | (c) Number respondents | (d) Frequency of responses per respondent | (e) Est. total annual responses (c x d) | (f) Hours per response | (g) Total burden (e x f)
Reporting Burden
Students | One time registration | N/A | 9 | 1.00 | 9.00 | 0.01670 | 0.15
| One time Log-in | N/A | 9 | 1.00 | 9.00 | 0.0083 | 0.07
| Food/Physical Activity Data Entry for 1 Day | N/A | 9 | 1.00 | 9.00 | 0.5 | 4.50
| Repeat Log-ins for 1 Year | N/A | 9 | 3.00 | 27.00 | 0.0083 | 0.22
| Repeat Food/Physical Activity Data Entries for 1 Year | N/A | 9 | 3.00 | 27.00 | 0.5 | 13.50
Total Burden Estimates |  |  | 9 |  | 81.00 |  | 18.45

Dated: January 13, 2009.
Robert Post,
Deputy Director, Center for Nutrition Policy and Promotion.

[FR Doc. E9-1141 Filed 1-21-09; 8:45 am]

BILLING CODE 3410-30-P